DEPARTMENT OF LABOR

Employee Benefits Security Administration

Proposed Extension of Information Collection Request Submitted for Public Comment; Furnishing Documents to the Secretary of Labor on Request Under ERISA Section 104(a)(6)

ACTION: Notice.

SUMMARY: In accordance with the Paperwork Reduction Act of 1995 (PRA 95) (44 U.S.C. 3506(c)(2)(A)), the Department of Labor (the Department) conducts a preclearance consultation program so that the general public and other federal agencies can comment on proposed and continuing collections of information. This program helps to ensure that the data the Department gathers arrive in the desired format, that the reporting burden on the public (time and financial resources) is minimized, that the public understands the collection instruments, and that the Department can accurately assess the impact of collection requirements on respondents.

By this notice, the Department is soliciting comments on the information collection provisions of regulations pertaining to section 104(a)(6) of the Employee Retirement Income Security Act of 1974, as amended (ERISA). The statute and the regulatory provisions codified at 29 CFR 2520.104a-8 require the administrator of an employee benefit plan subject to part 1 of Title I of ERISA to furnish the Secretary of Labor with certain documents relating to the plan upon request. A copy of the information collection request (ICR) can be obtained by contacting the office shown in the addresses section of this notice.

DATES: Written comments must be submitted to the office shown in the addresses section on or before October 11, 2005.

ADDRESSES: Interested parties are invited to submit written comments regarding the information collection request and burden estimates to: Gerald B. Lindrew, Office of Policy and Research, U.S. Department of Labor, Employee Benefits Security Administration, 200 Constitution Avenue, NW., Room N-5647, Washington, DC 20210. Telephone: (202) 693-8410; Fax: (202) 219-4745. These are not toll-free numbers.

SUPPLEMENTARY INFORMATION:

I. Background

The Taxpayer Relief Act of 1997 (TRA 97) eliminated the ERISA requirement that employee benefit plan administrators file with the Department copies of the summary plan descriptions and summaries of material modifications that are required to be furnished to plan participants and beneficiaries. TRA 97 added paragraph (6) to section 104(a) of ERISA which provides that the administrator of any employee benefit plan subject to Part 1 of Title I of ERISA is required to furnish to the Secretary of Labor, on request, any documents related to the employee benefit plan. Prior to the TRA 97 amendments, ERISA provided that certain documents be filed with the Department of Labor to ensure that plan participants and beneficiaries would have a means to obtain the documents without requesting them from the plan administrator. The new section 104(a)(6) authorizes the Department to request these documents on behalf of plan participants and beneficiaries. The Department issued a final implementing guidance on this matter on January 7, 2002 (67 FR 772). The ICR relating document requests was approved following publication of the proposed rule on August 5, 1999 (64 FR 42797). This approval will expire on December 31, 2005.

II. Desired Focus of Comments

The Department is particularly interested in comments that:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected;

• Minimize the burden of the collection of information on those who are to respond, including through the use of appropriate automated, electronic, mechanical, or other technological collection techniques or other forms of information technology, e.g., permitting electronic submission of responses.

III. Current Actions

The Employee Benefits Security Administration is requesting an extension of the currently approved ICR for the Furnishing Documents to the Secretary of Labor under ERISA section 104(a)(6). The Department is not proposing or implementing changes to the regulation or to the existing ICR. A summary of the ICR and the current burden estimates follows:

Type of Review: Extension of a currently approved collection.

Agency: Department of Labor, Employee Benefits Security. Administration

Title: Furnishing Documents to the Secretary of Labor on Request under ERISA.

OMB Number: 1210-0112.

Frequency: On occasion.

Affected Public: Individuals or households; business or other for-profit institutions; not-for-profit institutions.

Total Respondents: 1,000.

Total Responses: 1,000.

Estimated Total Burden Hours: 95.

Estimated Annual Burden Cost: $4,000.

Comments submitted in response to this notice will be summarized and/or included in the request for OMB approval of the ICR. They will also become a matter of public record.

Dated: August 5, 2005.
Gerald B. Lindrew,
Deputy Director, Office of Policy and Research, Employee Benefits Security Administration.

[FR Doc. 05-16028 Filed 8-11-05; 8:45 am]

BILLING CODE 4510-29-P